DEPARTMENT OF LABOR

Employment and Training Administration

[TA-W-65,190]

Hill's Family Corporation, Anaheim, CA; Notice of Termination of Investigation

Pursuant to Section 221 of the Trade Act of 1974, as amended, an investigation was initiated on February 10, 2009 in response to a petition filed by a State Workforce Official on behalf of workers of Hill's Family Corporation, Anaheim, California.

The petitioner has requested that the petition be withdrawn. Consequently, the investigation has been terminated.

Signed at Washington, DC, this 26th day of March 2009.
Elliott S. Kushner,
Certifying Officer, Division of Trade Adjustment Assistance.

[FR Doc. E9-10213 Filed 5-4-09; 8:45 am]

BILLING CODE 4510-FN-P